DEPARTMENT OF AGRICULTURE

National Institute of Food and Agriculture

Notice of Intent To Request Approval To Establish a New Information Collection

AGENCY: National Institute of Food and Agriculture, USDA.

ACTION: Notice; correction.

SUMMARY: The National Institute of Food and Agriculture published a document in the Federal Register on November 6, 2014 concerning a request to establish a new information collection for letter of intent. The document did not contain the burden hours.

FOR FURTHER INFORMATION CONTACT: Robert Martin, rmartin@nifa.usda.gov

Correction

In the Federal Register on November 6, 2014, in FR Doc. 014-26404, on page 65925, add the following:

Estimated Annual Burden
Title | Form No. | Respondents | Number of responses per respondent | Total annual responses | Hours per response | Total hours
Letter of Intent Form (LOI) (Individual) | N/A | 4,858 | 1 | 4,858 | 2 | 9,716
Assurance Statement (State) | NIFA-2008 | 2,000 | 1 | 2,000 | 0.5 | 1,000
Fellowship/Scholarships Entry/Exit Form (State) | NIFA-2010 | 150 | 1 | 150 | 3 | 450.0
Supplemental Information Form (State) | N/A | 5,500 | 1 | 5,500 | 2 | 11,000
Supplemental Information Form (Individual) | N/A | 50 | 1 | 50 | 2 | 100.0
Supplemental Information Form (Private) | N/A | 600 | 1 | 600 | 2 | 1200.0
Supplemental Information Form (Federal) | N/A | 50 | 1 | 50 | 2 | 100.0
Proposal Type Form (State) | N/A | 2,050 | 1 | 2,050 | 0.25 | 512.5
Proposal Type Form (Private) | N/A | 50 | 1 | 50 | 0.25 | 12.5
Proposal Type Form (Federal) | N/A | 50 | 1 | 50 | 0.25 | 12.5
Application Modification Form | N/A | 0 | 1 | 0 | 0.08 | 0.0
Total |  |  |  |  |  | 24,388

Dated: November 20, 2014.
Robert Holland,
Associate Director for Operations, National Institute of Food and Agriculture.

[FR Doc. 2014-28025 Filed 11-25-14; 8:45 am]

BILLING CODE 3410-22-P